DEPARTMENT OF TRANSPORTATION

Federal Aviation Administration

14 CFR Part 39

[Docket No. FAA-2006-26075; Directorate Identifier 2006-CE-55-AD]

RIN 2120-AA64

Airworthiness Directives; Raytheon Aircraft Company (The Beech Aircraft Company and BEECH Previously Held Type Certificate Nos. 3A15, 3A16, 5A3, and A-777) Models 35-33, 35-A33, 35-B33, 35-C33, E33, F33, G33, 35-C33A, E33A, F33A, E33C, F33C, 35, A35, B35, C35, D35, E35, F35, G35, H35, J35, K35, M35, N35, P35, S35, V35, V35A, V35B, 36, A36, A45 (T-34A, B45), D45 (T-34B), 95-55, 95-A55, 95-B55, 95-B55A, 95-B55B (T-42A), 95-C55, 95-C55A, D55, D55A, E55, E55A, 56TC, A56TC, 58, 95, B95, B95A, D95A, and E95 Airplanes

AGENCY: Federal Aviation Administration (FAA), Department of Transportation (DOT).

ACTION: Notice of proposed rulemaking (NPRM).

SUMMARY: We propose to supersede Airworthiness Directive (AD) 72-22-01, which applies to certain Raytheon Aircraft Company (RAC) (The Beech Aircraft Company and BEECH previously held Type Certificate Nos. 3A15, 3A16, 5A3, and A-777) Models 33, 35, 36, 45, and 95 series airplanes. AD 72-22-01 currently requires you to determine if each uplock roller is of the greasible type (one having a drilled and grooved inner race), replace any nongreasible uplock roller (one having a solid inner race) with the greasible type before further flight, install hollow zerk-ended mounting bolts on the uplock rollers, and repetitively lubricate the uplock mechanism. Since we issued AD 72-22-01, there was a recent incident involving a RAC Model 95-B55B (T-42A) airplane where a seizure of the uplock rollers occurred. This malfunction of the uplock rollers is addressed in AD 72-22-01. Thus, the FAA has determined that the actions of AD 72-22-01 should also apply to certain serial numbers of the Model 95-B55B (T-42A) airplanes. Consequently, this proposed AD would retain all the actions of AD 72-22-01, would add those Model 95-B55B (T-42A) airplanes to the applicability of this proposed AD, and would list out the specific serial numbers. We are proposing this AD to decrease the possibility of gear-up landings caused by seizure of the uplock rollers.

DATES: We must receive comments on this proposed AD by February 9, 2007.

ADDRESSES: Use one of the following addresses to comment on this proposed AD:

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Raytheon Aircraft Company, P.O. Box 85, Wichita, Kansas 67201-0085; telephone: (800) 429-5372 or (316) 676-3140.

FOR FURTHER INFORMATION CONTACT: Anthony Flores, Aerospace Engineer, Aerospace Engineer, FAA, Wichita Aircraft Certification Office, 1801 Airport Road, Wichita, Kansas 67209; telephone: (316) 946-4174; facsimile: (316) 946-4107.

SUPPLEMENTARY INFORMATION:

Comments Invited

We invite you to send any written relevant data, views, or arguments regarding this proposed AD. Send your comments to an address listed under the ADDRESSES section. Include the docket number, “FAA-2006-26075; Directorate Identifier 2006-CE-55-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

Reports of RAC 33, 35, 36, 45, and 95 series airplanes equipped with non-greasible uplock rollers having a solid inner race that renders lubrication of the uplock roller mechanism ineffective caused us to issue AD 72-22-01, Amendment 39-1544 (37 FR 22371, October 19, 1972). AD 72-22-01 currently requires the following on certain RAC 33, 35, 36, 45, and 95 series airplanes:

• Determining if each uplock roller is of the greasible type (one having a drilled and grooved inner race);

• Replacing any nongreasible uplock roller (one having a solid inner race) with the greasible type before further flight;

• Installing a hollow zerk-ended mounting bolts on the uplock rollers; and

• Repetitively lubricating the uplock mechanism.

Since we issued AD 72-22-01, there was a recent incident involving a RAC Model 95-B55B (T-42A) airplane where a seizure of the uplock rollers occurred. The design of the uplock rollers is the same as those uplock rollers on the airplanes addressed by AD 72-22-01.

This condition, if not corrected, could result in a gear-up landing.

Relevant Service Information

We have reviewed Beechcraft Service Instructions No. 0448-211, Rev. I, and Beechcraft Service Instructions No. 0448-211.

The service information describes procedures for:

• Determining if each uplock roller is of the greasible type (one having a drilled and grooved inner race);

• Replacing any nongreasible uplock roller (one having a solid inner race) with the greasible type before further flight;

• Installing a hollow zerk-ended mounting bolts on the uplock rollers; and

• Repetitively lubricating the uplock mechanism.

FAA's Determination and Requirements of the Proposed AD

We are proposing this AD because we evaluated all information and determined the unsafe condition described previously is likely to exist or develop on other products of the same type design. This proposed AD would supersede AD 72-22-01 with a new AD that would retain all the actions of AD 72-22-01, would add those Model 95-B55B (T-42A) airplanes to the applicability of this proposed AD, and would list out the specific serial numbers. This proposed AD would require you to use the service information described previously to perform these actions.

Costs of Compliance

We estimate that this proposed AD would affect 9,714 airplanes in the U.S. registry.

The differences in costs between this proposed AD and AD 72-22-01 are the costs associated with the number of Model 95-B55B (T-42A) airplanes that were not affected by AD 72-22-01.

We estimate the following costs to do the proposed actions to determine if each uplock roller is of the greasible type (one having a drilled and grooved inner race), replace any nongreasible uplock roller (one having a solid inner race) with the greasible type before further flight, install hollow zerk-ended mounting bolts on the uplock rollers, and initially lubricate the uplock mechanism:

Labor cost | Parts cost | Total cost per airplane | Total cost on U.S. operators
2 work-hours × $80 per hour = $160 | $30 | $190 | $1,845,660

We estimate the following costs for each lubrication of the uplock mechanism.

Labor cost | Parts cost | Total cost per airplane | Total cost on U.S. operators
1 work-hour × $80 per hour = $80 | None | $80 | $777,120

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 72-22-01, Amendment 39-1544, and adding the following new AD:

Raytheon Aircraft Company (The Beech Aircraft Company and BEECH previously held Type Certificate Nos. 3A15, 3A16, 5A3, and A-777): Docket No. FAA-2006-26075; Directorate Identifier 2006-CE-55-AD; Supersedes AD 72-22-01; Amendment 39-1544.

Comments Due Date

(a) We must receive comments on this airworthiness directive (AD) action by February 9, 2007.

Affected ADs

(b) This AD supersedes AD 72-22-01, Amendment 39-1544.

Unsafe Condition

(c) This AD applies to the following airplane models and serial numbers (SNs) that are certificated in any category:

(1) Group 1 (maintains the actions from AD 72-22-01):

Model | SNs
(i) 35-33, 35-A33, 35-B33, 35-C33, E33, F33, and G33 | CD-1 through CD-1256.
(ii) 35-C33A, E33A, and F33A | CE-1 through CE-349.
(iii) E33C and F33C | CJ-1 through CJ-30.
(iv) 35, A35, B35, C35, D35, E35, F35, G35, H35, J35, K35, M35, N35, P35, S35, V35, V35A, and V35B | D-1 through D-9287.
(v) 36 and A36 | E1 through E-283.
(vi) A45 (T-34A, B45) and D45 (T-34B) | All.
(vii) 95-55, 95-A55, 95-B55, and 95-B55A | TC-1 through TC-1402.
(viii) 95-C55, 95-C55A, D55, D55A, E55, and E55A | TE-1 through TE-846.
(ix) 56TC and A56TC | TG-1 through TG-94.
(x) 58 | TH-1 through TH-174.
(xi) 95, B95, B95A, D95A, and E95 | TD-2 through TD-721.

(2) Group 2: Model 95-B55B (T-42A) airplanes, SNs TF-1 through TF-70.

Unsafe Condition

(d) This AD results from a recent incident involving a Raytheon Aircraft Company (RAC) Model 95-B55B (T-42A) airplane where a seizure of the uplock rollers occurred. We are issuing this AD to decrease the possibility of gear-up landings caused by seizure of the uplock rollers.

Compliance

(e) To address this problem, you must do the following, unless already done:

Actions | Compliance | Procedures
(1) Determine if each uplock roller is of the greasible type (one having a drilled and grooved inner race) | (A) For Group 1 airplanes: Within 300 hours time-in-service (TIS) after October 25, 1972 (the effective date of AD 72-22-01) | Follow Beechcraft Service Instructions No. 0448-211, Rev. I, or Beechcraft Service Instructions No. 0448-211.
| (B) For Group 2 airplanes: Within 300 hours TIS after the effective date of this AD
(2) Replace any nongreasible uplock roller (one having a solid inner race) with the greasible type | (A) For Group 1 airplanes: Before further flight after the determination required by paragraph (e)(1)(A) of this AD | Follow Beechcraft Service Instructions No. 0448-211, Rev. I, or Beechcraft Service Instructions No. 0448-211.
| (B) For Group 2 airplanes: Before further flight after the determination required by paragraph (e)(1)(B) of this AD
(3) Install hollow zerk-ended mounting bolts on the uplock rollers | (A) For Group 1 airplanes: Within 300 hours TIS after October 25, 1972 (the effective date of AD 72-22-01) | Follow Beechcraft Service Instructions No. 0448-211, Rev. I, or Beechcraft Service Instructions No. 0448-211.
| (B) For Group 2 airplanes: Within 300 hours TIS after the effective date of this AD
(4) Lubricate the uplock mechanism | (A) For Group 1 airplanes: Initially within 300 hours TIS after October 25, 1972 (the effective date of AD 72-22-01). Repetitively lubricate thereafter at intervals not to exceed 100 hours TIS | Follow Beechcraft Service Instructions No. 0448-211, Rev. I, or Beechcraft Service Instructions No. 0448-211.
| (B) For Group 2 airplanes: Initially within 300 hours TIS after the effective date of this AD. Repetitively lubricate thereafter at intervals not to exceed 100 hours TIS

Alternative Methods of Compliance (AMOCs)

(f) The Manager, Wichita Aircraft Certification Office, FAA, ATTN: Anthony Flores, Aerospace Engineer, 1801 Airport Road, Wichita, Kansas 67209; telephone: (316) 946-4174; facsimile: (316) 946-4107, has the authority to approve AMOCs for this AD, if requested using the procedures found in 14 CFR 39.19.

(g) AMOCs approved for AD 72-22-01 are approved for this AD.

Related Information

(h) To get copies of the service information referenced in this AD, contact Raytheon Aircraft Company, P.O. Box 85, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2006-26075; Directorate Identifier 2006-CE-55-AD.

Issued in Kansas City, Missouri, on December 4, 2006.
John R. Colomy,
Acting Manager, Small Airplane Directorate, Aircraft Certification Service.

[FR Doc. E6-20970 Filed 12-8-06; 8:45 am]

BILLING CODE 4910-13-P